DEPARTMENT OF ENERGY

Federal Energy Regulatory Commission

Combined Notice of Filings #1

Take notice that the Commission received the following electric rate filings:

Docket Numbers: ER19-1200-002; ER19-842-002; ER10-2346-011; ER10-2353-011; ER11-4351-012; ER21-1947-001.

Applicants: NedPower Mount Storm LLC, Pinnacle Wind, LLC, Lookout WindPower LLC, Forward WindPower LLC, Energy Center Paxton LLC, Clearway Power Marketing LLC.

Description: Supplement to May 19, 2021 Notice of Change in Status of Clearway Power Marketing LLC, et al.

Filed Date: 7/12/21.

Accession Number: 20210712-5182.

Comment Date: 5 p.m. ET 12/22/21.

Docket Numbers: ER21-1295-001.

Applicants: ISO New England Inc., Eversource Energy Service Company (as agent).

Description: Compliance filing: ISO New England Inc. submits tariff filing per 35: Eversource; ER21-1295 Amended Order 864 Comp. Filing Supplementing Comp. Filings to be effective 1/1/2020.

Filed Date: 12/1/21.

Accession Number: 20211201-5071.

Comment Date: 5 p.m. ET 12/22/21.

Docket Numbers: ER21-2183-002.

Applicants: Southwest Power Pool, Inc.

Description: Compliance filing: Substitute 3825 Prairie Hills Wind GIA to be effective 6/14/2021.

Filed Date: 12/1/21.

Accession Number: 20211201-5128.

Comment Date: 5 p.m. ET 12/22/21.

Docket Numbers: ER22-191-000.

Applicants: Tidal Energy Marketing (U.S.) L.L.C.

Description: Supplement to October 22, 2021 Tidal Energy Marketing (U.S.) L.L.C. tariff filing.

Filed Date: 11/5/21.

Accession Number: 20211105-5145.

Comment Date: 5 p.m. ET 12/10/21.

Docket Numbers: ER22-502-000.

Applicants: New England Power Pool Participants Committee.

Description: § 205(d) Rate Filing: November 2021 Membership Filing to be effective 11/1/2021.

Filed Date: 11/30/21.

Accession Number: 20211130-5258.

Comment Date: 5 p.m. ET 12/21/21.

Docket Numbers: ER22-503-000.

Applicants: Southwest Power Pool, Inc.

Description: § 205(d) Rate Filing: 1534R14 Kansas Municipal Energy Agency NITSA and Sunflower NITSA Cancellation to be effective 11/1/2021.

Filed Date: 12/1/21.

Accession Number: 20211201-5017.

Comment Date: 5 p.m. ET 12/22/21.

Docket Numbers: ER22-505-000.

Applicants: Consolidated Edison Company of New York, Inc.

Description: § 205(d) Rate Filing: DG Wheeling PASNY Tariff 12-1-201 to be effective 12/1/2021.

Filed Date: 12/1/21.

Accession Number: 20211201-5127.

Comment Date: 5 p.m. ET 12/22/21.

Docket Numbers: ER22-506-000.

Applicants: PPL Electric Utilities Corporation, PJM Interconnection, L.L.C.

Description: § 205(d) Rate Filing: PPL Electric Utilities Corporation submits tariff filing per 35.13(a)(2)(iii: PPL Electric submits SA No. 6255, ECSA for MAIT Alburtis Substation Project to be effective 12/2/2021.

Filed Date: 12/1/21.

Accession Number: 20211201-5133.

Comment Date: 5 p.m. ET 12/22/21.

Docket Numbers: ER22-507-000.

Applicants: Pinnacle Wind, LLC.

Description: Baseline eTariff Filing: Filing of Reactive Power Rate Schedule to be effective 1/1/2022.

Filed Date: 12/1/21.

Accession Number: 20211201-5134.

Comment Date: 5 p.m. ET 12/22/21.

Docket Numbers: ER22-508-000.

Applicants: Indra Power Business IL LLC.

Description: Baseline eTariff Filing: Tariffs and Agreements to be effective 2/1/2022.

Filed Date: 12/1/21.

Accession Number: 20211201-5136.

Comment Date: 5 p.m. ET 12/22/21.

Docket Numbers: ER22-509-000.

Applicants: Northern States Power Company, a Minnesota corporation.

Description: § 205(d) Rate Filing: 2021-12-01 NSP-OTP-CIAC-Fiber-695-0.0.0 to be effective 12/2/2021.

Filed Date: 12/1/21.

Accession Number: 20211201-5137.

Comment Date: 5 p.m. ET 12/22/21.

Docket Numbers: ER22-510-000.

Applicants: PJM Interconnection, L.L.C., Wabash Valley Power Association, Inc.

Description: § 205(d) Rate Filing: PJM Interconnection, L.L.C. submits tariff filing per 35.13(a)(2)(iii: Original Service Agreement No. 6258 re: NITSA among PJM and Wabash Valley to be effective 11/1/2021.

Filed Date: 12/1/21.

Accession Number: 20211201-5142.

Comment Date: 5 p.m. ET 12/22/21.

Docket Numbers: ER22-511-000.

Applicants: Morongo Transmission LLC.

Description: § 205(d) Rate Filing: Annual Operating Cost Update Filing to be effective 1/1/2022.

Filed Date: 12/1/21.

Accession Number: 20211201-5154.

Comment Date: 5 p.m. ET 12/22/21.

Docket Numbers: ER22-512-000.

Applicants: Southwest Power Pool, Inc.

Description: § 205(d) Rate Filing: 3215R11 People's Electric Cooperative NITSA NOAs to be effective 11/1/2021.

Filed Date: 12/1/21.

Accession Number: 20211201-5187.

Comment Date: 5 p.m. ET 12/22/21.

Docket Numbers: ER22-513-000.

Applicants: Southwest Power Pool, Inc.

Description: § 205(d) Rate Filing: 3396R2 Otter Tail Power Company NITSA and NOA to be effective 11/1/2021.

Filed Date: 12/1/21.

Accession Number: 20211201-5195.

Comment Date: 5 p.m. ET 12/22/21.

Docket Numbers: ER22-514-000.

Applicants: Arizona Public Service Company.

Description: § 205(d) Rate Filing: Rate Schedule No. 217 Exhibit B Revisions to be effective 1/31/2022.

Filed Date: 12/1/21.

Accession Number: 20211201-5208.

Comment Date: 5 p.m. ET 12/22/21.

Docket Numbers: ER22-515-000.

Applicants: Southwest Power Pool, Inc.

Description: § 205(d) Rate Filing: 3397R1 Otter Tail Power Company NITSA and NOA to be effective 11/1/2021.

Filed Date: 12/1/21.

Accession Number: 20211201-5209.

Comment Date: 5 p.m. ET 12/22/21.

Docket Numbers: ER22-516-000.

Applicants: Arizona Public Service Company.

Description: § 205(d) Rate Filing: Service Agreement No. 396 to be effective 11/29/2021.

Filed Date: 12/1/21.

Accession Number: 20211201-5219.

Comment Date: 5 p.m. ET 12/22/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2021.
Kimberly D. Bose,
Secretary.

[FR Doc. 2021-26489 Filed 12-6-21; 8:45 am]

BILLING CODE 6717-01-P